DEPARTMENT OF HEALTH AND HUMAN SERVICES

Centers for Disease Control and Prevention

[60Day-17-0004: Docket No. CDC-2017-0035]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the revision of the National Disease Surveillance Program II Disease Summaries information collection. These surveillance data are essential on the local, state, and federal levels for measuring trends in diseases, evaluating the effectiveness of current preventive strategies, and determining the need to modify current preventive measures.

DATES: Written comments must be received on or before June 19, 2017.

ADDRESSES: You may submit comments, identified by Docket No. CDC-2017-0035 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

National Disease Surveillance Program II Disease Summaries (OMB Control Number 0920-0004, Expiration Date 10/31/2017)—Revision—National Center for Immunization and Respiratory Diseases, Centers for Disease Control and Prevention (CDC).

Background and Brief Description

CDC requests a three-year approval for the revision of the National Disease Surveillance Program II Disease Summaries information collection.

As with the previous approval, these data are essential for measuring trends in diseases, evaluating the effectiveness of current preventive strategies, and determining the need to modify current preventive measures. The following diseases in this surveillance program are Influenza Virus, Caliciviruses, Respiratory and Enteric Viruses, Foodborne Outbreaks, Waterborne Outbreaks and Enteroviruses. Proposed revisions include form consolidation, minor revised language and rewording to improve clarity and readability of the data collection forms and the discontinuation of multiple previously approved influenza collection instruments, and the National Respiratory & Enteric Virus Surveillance System (NREVSS) Laboratory Assessment (CDC 55.83). CDC requests the use of a new form, Suspect Respiratory Virus Patient Form, to assist health departments and clinical sites when they submit specimens to the CDC lab for viral pathogen identification. The data will enable rapid detection and characterization of outbreaks of known pathogens, as well as potential newly emerging viral pathogens.

The total burden estimate for all collection instruments in this revision request is 24,804. The frequency of response for each form will depend on the disease and surveillance need. This represents a 7,117 burden hour reduction since last approval. This reduction in burden hours is attributed primarily to the discontinuation of previously approved forms and formatting changes to existing forms.

Estimated Annualized Burden Hours
Type of respondent | Form name | Number of respondents | Number of responses per respondent | Average burden per response (in hours) | Total burden hours
Epidemiologist | NORS Foodborne Disease Transmission_Person to Person Disease Transmission_Animal Contact_Environmental Contamination_Unknown Transmission Mode_52.13 | 54 | 37 | 20/60 | 666
Epidemiologist | WHO COLLABORATING CENTER FOR INFLUENZA Influenza Virus Surveillance | 53 | 52 | 10/60 | 460
Epidemiologist | U.S. WHO Collaborating Laboratories Influenza Testing Methods Assessment | 113 | 1 | 10/60 | 19
Epidemiologist | U.S. Outpatient Influenza-like Illness Surveillance Network (ILINet) Weekly_CDC 55.20 | 1,800 | 52 | 10/60 | 15,600
Epidemiologist | U.S. Outpatient Influenza-like Illness Surveillance Network (ILINet) Workfolder 55.20E | 1,800 | 1 | 5/60 | 150
Epidemiologist | Influenza-Associated Pediatric Mortality Case Report Form | 57 | 2 | 30/60 | 57
Epidemiologist | Human Infection with Novel Influenza A Virus Case Report Form | 57 | 2 | 30/60 | 57
Epidemiologist | Human Infection with Novel Influenza A Virus Severe Outcomes | 57 | 1 | 1.5/60 | 86
Epidemiologist | Novel Influenza A Virus Case Screening Form | 57 | 1 | 15/60 | 15
Epidemiologist | Antiviral Resistant Influenza Infection Case Report Form | 57 | 3 | 30/60 | 86
Epidemiologist | National Respiratory & Enteric Virus Surveillance System (NREVSS) (55.83A, B, D) (electronic) | 550 | 52 | 15/60 | 7,150
Epidemiologist | National Enterovirus Surveillance Report: (CDC 55.9) (electronic) | 20 | 12 | 15/60 | 60
Epidemiologist | National Adenovirus Type Reporting System (NATRS) | 13 | 4 | 15/60 | 13
Epidemiologist | Middle East Respiratory Syndrome (MERS) Patient Under Investigation (PUI) Short Form | 57 | 3 | 25/60 | 72
Epidemiologist | Viral Gastroenteritis Outbreak Submission Form | 20 | 5 | 5/60 | 9
Epidemiologist | NORS Waterborne Disease Transmission Form_52.12. | 57 | 1 | 20/60 | 19
Epidemiologist | Influenza Virus (Electronic, Year Round), PHLIP_HL7 messaging Data Elements | 57 | 52 | 5/60 | 247
Epidemiologist | Influenza virus (electronic, year round) (PHIN-MS) | 3 | 52 | 5/60 | 13
Epidemiologist | Suspect Respiratory Virus Patient Form | 10 | 5 | 30/60 | 25
Total |  |  |  |  | 24,804

Leroy A. Richardson,
Chief, Information Collection Review Office, Office of Scientific Integrity, Office of the Associate Director for Science, Office of the Director, Centers for Disease Control and Prevention.

[FR Doc. 2017-07902 Filed 4-18-17; 8:45 am]

BILLING CODE 4163-18-P